DEPARTMENT OF AGRICULTURE

Forest Service

Helena National Forest, MT, Telegraph Vegetation Project

AGENCY: Forest Service, USDA.

ACTION: Notice of intent to prepare an environmental impact statement.

SUMMARY: The Helena National Forest is going to prepare an environmental impact statement for vegetation management actions in the Little Blackfoot drainage west of the Continental Divide. The purpose and need for action is to be responsive to the mountain pine beetle outbreak in this area, specifically to recover economic value of dead and dying trees. Additional purposes for the project include promoting desirable regeneration, reducing fuels and the risk of catastrophic fire, and maintaining diverse wildlife habitats.

DATES: Comments concerning the scope of the analysis must be received by December 14, 2009. The draft environmental impact statement is expected June 2010 and the final environmental impact statement is expected November 2010.

ADDRESSES: Send written comments to Liz Van Genderen, Helena National Forest, 2880 Skyway Dr., Helena, MT 59602. Comments may also be sent via e-mail to comments-northern-Helena@fs.fed.us, or via facsimile to 406-449-5436.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Liz Van Genderen at 406-449-5201.

Individuals who use telecommunication devices for the deaf (TDD) may call the Federal Information Relay Service (FIRS) at 1-800-877-8339 between 8 a.m. and 8 p.m., Eastern Time, Monday through Friday.

SUPPLEMENTARY INFORMATION:

Purpose and Need for Action

Wide-scale tree mortality has occurred due to the mountain pine beetle. This mortality causes changes to fire behavior in the event of a wildfire. Treatment is needed to ensure diverse and sustainable forest stands and to lessen the probability of a catastrophic wildfire which could threaten wildland urban interface areas. The project focuses on reducing hazardous fuels, establishing healthy regeneration, and recovering the economic value of dead trees. In addition, aspen and whitebark pine can be promoted with treatment. The project also seeks to maintain or improve watershed values.

Proposed Action

Approximately 6,335 acres are proposed for treatment. Roughly 2,000 acres are young stands that established after past harvest and are in need of thinning to ensure they reach viable maturity. The remaining acres are primarily mature stands of lodgepole pine with some Douglas-fir, Engelmann spruce, and subalpine fir with high mountain pine beetle mortality. These acres would be treated using a combination of improvement cuts, regeneration harvests, thinning, and prescribed fire. Post treatment activities would include approximately 3,800 acres of underburning, site prep, broadcast burning, jackpot burning, and hand piling/burning. In addition, trees that are hazardous to public and historic structures would be removed. Up to 7 miles of new road construction and approximately 5 miles of road reconstruction would be necessary to implement the proposed action.

Responsible Official

Helena National Forest Supervisor.

Nature of Decision To Be Made

The decisions to be made include: whether to implement the proposed action or an alternative to the proposed action, what monitoring requirements would be appropriate to evaluate the implementation of this project, and whether a forest plan amendment would be necessary as a result of the decision for this project.

Scoping Process

This notice of intent initiates the scoping process, which guides the development of the environmental impact statement. In November 2009, a scoping package will be mailed, an open house will be scheduled, and website information will be posted.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: November 5, 2009.
Kevin T. Riordan,
Forest Supervisor.

[FR Doc. E9-27144 Filed 11-10-09; 8:45 am]

BILLING CODE 3410-11-P